DEPARTMENT OF COMMERCE

National Oceanic and Atmospheric Administration

50 CFR Part 300

[Docket No. 241216-0328]

RIN 0648-BN41

Pacific Halibut Fisheries of the West Coast; 2025 Catch Sharing Plan and Recreational Fishery Management Measures

AGENCY: National Marine Fisheries Service (NMFS), National Oceanic and Atmospheric Administration (NOAA), Commerce.

ACTION: Proposed rule; request for comments.

SUMMARY: NMFS proposes to approve changes to the Pacific Halibut Catch Sharing Plan for the International Pacific Halibut Commission's regulatory Area 2A off Washington, Oregon, and California. In addition, NMFS proposes to implement new management measures for the 2025 recreational fisheries in Area 2A that are not implemented through the International Pacific Halibut Commission (IPHC). These measures include the recreational fishery seasons and subarea allocations for Area 2A. This action would also add a new inseason management provision to transfer anticipated uncaught recreational fishery allocation from the Northern California subarea to the South of Point Arena subarea. These actions are intended to conserve Pacific halibut and provide angler opportunity where available.

DATES: Comments on the proposed rule must be received on or before January 27, 2025.

ADDRESSES: A plain language summary of this proposed rule is available at https://www.regulations.gov/docket/NMFS-2024-0139. You may submit comments on this document, identified by NOAA-NMFS-2024-0139, by either of the following methods:

• Electronic Submission: Submit all electronic public comments via the Federal e-Rulemaking Portal. Visit https://www.regulations.gov and type NOAA-NMFS-2024-0139 in the Search box. Click on the “Comment” icon, complete the required fields, and enter or attach your comments.

• Mail: Submit written comments to Jennifer Quan, Regional Administrator, c/o Melissa Mandrup, West Coast Region, NMFS, 501 W Ocean Blvd., Long Beach, CA 90802.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Docket: This rule is accessible via the internet at the Office of the Federal Register website at https://www.federalregister.gov. Background information and documents are available at the NMFS West Coast Region Pacific Halibut Recreational Fishery website at https://www.fisheries.noaa.gov/action/2024-pacific-halibut-recreational-fishery and at the Council's website at https://www.pcouncil.org. Other comments received may be accessed through https://www.regulations.gov.

FOR FURTHER INFORMATION CONTACT: Melissa Mandrup, phone: 562-980-3231 or email: melissa.mandrup@noaa.gov.

SUPPLEMENTARY INFORMATION:

Background

The Northern Pacific Halibut Act of 1982 (Halibut Act), 16 U.S.C. 773-773k, gives the Secretary of Commerce responsibility for implementing the provisions of the Convention between Canada and the United States for the Preservation of the Halibut Fishery of the North Pacific Ocean and Bering Sea (Halibut Convention, signed at Ottawa, Ontario, on March 2, 1953), as amended by a Protocol Amending the Convention,(signed at Washington, DC, on March 29, 1979), including adopting regulations to carry it out (16 U.S.C. 773c). Additionally, the regional fishery management councils having authority for the geographic area concerned may develop, and the Secretary of Commerce may implement, regulations governing Pacific halibut fishing in in U.S. waters that are in addition to, and not in conflict with, approved IPHC regulations (id. 773c(c)).

As provided in the Halibut Act at 16 U.S.C. 773b, the Secretary of State, with the concurrence of the Secretary of Commerce, may accept or reject, on behalf of the United States, regulations recommended by the IPHC in accordance with the Convention. Following acceptance by the Secretary of State, the annual management measures promulgated by the IPHC are published in the Federal Register to provide notice of their immediate regulatory effectiveness and to inform persons subject to the regulations of their restrictions and requirements (50 CFR 300.62). The IPHC will hold its annual meeting January 27-31, 2025, where it is anticipated that they will recommend the Area 2A catch limit, also known as the Fishery Constant Exploitation Yield (FCEY). This FCEY is derived from the total constant exploitation yield (TCEY) for Pacific halibut, which includes commercial discards and bycatch estimates calculated using a formula developed by the IPHC. The 2025 TCEY and FCEY for Area 2A, as well as other applicable Area 2A allocations that are established by the IPHC in accordance with the Area 2A Catch Sharing Plan (CSP), will be published as part of a separate rulemaking. These allocations, in net weight,¹ will be based on IPHC's recommended 2025 Area 2A FCEY and will be subject to acceptance by the Secretary of State with concurrence by the Secretary of Commerce.

¹ “Net weight” of a Pacific halibut means the weight of Pacific halibut that is without gills and entrails, head-off, washed, and without ice and slime. If a Pacific halibut is weighed with the head on or with ice and slime, the required conversion factors for calculating net weight are a 2 percent deduction for ice and slime and a 10 percent deduction for the head (IPHC Fisheries Regulations, 2024).

Since 1988, the Pacific Fishery Management Council (Council) has developed a CSP that allocates the IPHC regulatory Area 2A Pacific halibut FCEY between treaty Tribal and non-Tribal harvesters and among non-Tribal commercial and recreational (sport) fisheries. NMFS has implemented at 50 CFR 300.63 et seq. certain provisions of the CSP and implemented annual rules containing annual management measures consistent with the CSP. In 1995, the Council recommended and NMFS approved a long-term Area 2A CSP (60 FR 14651, March 20, 1995). NMFS has been approving adjustments to the Area 2A CSP based on Council recommendations each year to address the changing needs of these fisheries. While the full CSP is not published in the Federal Register, it is made available on the Council website.

This rule proposes to approve the changes the Council recommended at its November 2024 meeting to the 2025 Area 2A CSP. The recommended changes to the 2025 CSP were developed through the Council's public process over multiple meetings. This rule also proposes to implement recreational Pacific halibut fishery management measures for 2025, which include season opening and closing dates consistent with 2025 CSP as modified by the Council's November 2024 recommendations.

Proposed Changes to the 2025 Area 2A Catch Sharing Plan

Each year at the Council's September meeting, members of the public have an opportunity to propose changes to the CSP for consideration by the Council. At the September 2024 Council meeting, per the typical annual process, the Washington Department of Fish and Wildlife (WDFW), Oregon Department of Fish and Wildlife (ODFW), and California Department of Fish and Wildlife (CDFW) proposed changes to the CSP for the fisheries that occur off of their respective coasts.

At its November 2024 meeting, the Council considered the results of State-sponsored workshops on the proposed changes to the CSP, along with public input provided at the September and November 2024 Council meetings, and made its recommendations for modifications to the CSP. NMFS proposes to approve all the Council's recommended changes to the CSP, which are discussed below.

1. The Council recommended changes to Section 5.6.4 of the Catch Sharing Plan regarding the notice and timing of non-tribal directed commercial fishery sequential season openings. Specifically, the Council recommended that NMFS notice the dates for the first three openers in the Federal Register prior to the start of the season for the non-Tribal directed commercial fishery, with two weeks between first and second opener and no more than 3 weeks between any following openers.

2. In section 6.9.2(d) of the CSP, the Council recommended that NMFS revise the season structure in the Washington North Coast subarea to allow for fishing on the Saturday of Memorial Day Weekend if the 2A FCEY is at least 1.3 million pounds (lb) or 589.7 metric tons (mt) and up to 3 days per week in June if the Area 2A FCEY is less than 1.3 million lb (589.7 mt).

2. In section 6.9.3(d) of the CSP, the Council recommended that NMFS revise the season structure in the Washington South Coast subarea to include the Sunday of Memorial Day Weekend.

3. In section 6.10(d) of the CSP, the Council recommended that NMFS revise the season structure in the Columbia River subarea to allow for 2 additional days be added to the 3-day opener in June depending on the remaining allocation for the subarea.

4. In section 6.11(d) of the CSP, the Council recommended that NMFS revise the allocations and season structure in the Oregon Central Coast subarea to allow more of the Central Coast allocation to be for the all-depth fisheries (i.e., spring and summer) as opposed to the nearshore fishery, additional flexibility in the number of days per opener, and for the summer all-depth fishery to be open beginning August 1 every week or every other week depending on the remaining allocation for the subarea.

5. In sections 6.8.1 and 6.12 of the CSP, the Council recommended that NMFS allow for inseason transfers of the Northern California allocation to the South of Point Arena subarea. Specifically, in section 6.8.1(f), the Council recommended that NMFS allow for an inseason transfer of any projected unused Northern California subarea allocation by the season ending date of November 15 from the Northern California subarea to the South of Point Arena subarea. For section 6.12(f), the Council recommended that NMFS allow for an inseason transfer (i.e., any time prior to November 15) of any projected unused Northern California subarea allocation to the South of Point Arena subarea.

Additional discussion of these changes is included in the materials submitted to the Council at its September and November meetings, available at https://www.pcouncil.org/council-meetings/previous-meetings/. A version of the CSP including these changes can be found at https://www.pcouncil.org/managed_fishery/pacific-halibut/.

Proposed 2025 Recreational Fishery Management Measures

As described above, NMFS proposes to implement recreational fishery management measures, including season dates for the 2025 fishery, consistent with the Council's recommendations. The CSP includes a framework for setting days open for fishing by subarea; under this framework, each State submits final recommended season dates annually to NMFS during the proposed rule comment period. In addition, the final dates will be based on the 2025 FCEY Area 2A allocation, which is issued as described above. However, this proposed rule contains preliminary dates based on the CSP framework and/or recommendations received to date.

After the opportunity for public comment, including comments from WDFW, ODFW, and CDFW, and after each State has concluded its public meetings gathering input on season dates, NMFS will publish a final rule approving the CSP and promulgating the annual management measures for the Area 2A recreational fishery, as appropriate and required by implementing regulations at 50 CFR 300.63(c)(1). If there is any discrepancy between the CSP and Federal regulations, Federal regulations take precedence.

2025 Annual Recreational Management Measures

NMFS proposes recreational fishing subareas, allocations, and fishing dates as described below. Fishery and subarea allocations are provided in net weight. These provisions may be modified through inseason action consistent with 50 CFR 300.63(c). Inseason actions taken by NMFS will be published in the Federal Register. In addition to publication in the Federal Register, NMFS will make the public aware of inseason management actions by a telephone hotline, (206) 526-6667 or (800) 662-9825, and fishery bulletins administered through email by NMFS West Coast Region. Since provisions of these regulations may be changed by inseason actions, recreational anglers are encouraged to monitor the telephone hotline and subscribe to receive fishery bulletin emails for current information for the area in which they are fishing. All recreational fishing in Area 2A is managed on a “port of landing” basis, whereby any Pacific halibut landed into a port counts toward the allocation, in net weight, for the area in which that port is located, and the regulations governing the area of landing apply regardless of the specific area of catch.

Washington Puget Sound and the U.S. Convention Waters in the Strait of Juan de Fuca

The subarea allocation for landings into ports in Puget Sound and the U.S. waters in the Strait of Juan de Fuca will be provided in the final rule based on the allocation formula in the CSP.

(a) If the 2025 Area 2A FCEY is 1.3 million lb (589.7 mt) or greater, NMFS is proposing to open the Puget Sound and the U.S. Convention Waters in the Strait of Juan de Fuca fishery on April 3 through June 30, 7 days a week. If the subarea allocation remains for at least another full day of fishing after June 30, NMFS may take inseason action to reopen the fishery in August, up to 7 days per week, through September. The area will be closed when there is not sufficient subarea allocation for another full day of fishing. If the Puget Sound subarea season is closed prior to September 30 and there is insufficient allocation for an additional fishing day, then any remaining Puget Sound subarea allocation may be transferred inseason to another Washington coastal subarea by NMFS.

If the 2025 Area 2A FCEY is less than 1.3 million lb (589.7 mt), then NMFS proposes to open the fishery every Thursday, Friday, Saturday, Sunday, and Monday from April 3 through June 30. If the subarea allocation remains for at least another full day of fishing after June 30, NMFS may take inseason action to reopen the fishery in August, up to 7 days per week, through September. The area will be closed when there is not sufficient subarea allocation for another full day of fishing. If the Puget Sound subarea season is closed prior to September 30 and there is insufficient allocation for an additional fishing day, then any remaining Puget Sound subarea allocation may be transferred inseason to another Washington coastal subarea by NMFS.

Any inseason action, including closures and intrastate subarea allocation transfers, will be announced in accordance with Federal regulations at 50 CFR 300.63(c) and on the NMFS hotline at (206) 526-6667 or (800) 662-9825.

(b) The daily bag limit is one Pacific halibut of any size per person.

Washington North Coast Subarea

The allocation for landings into ports in the Washington North Coast subarea will be provided in the final rule based on the allocation formula in the CSP.

(a) If the Area 2A 2025 FCEY is greater than 1.3 million lb (589.7 mt), NMFS is proposing to open the Washington North Coast fishery:

• May 1, 2, 3, 8, 9, 10, 15, 16, 17 (Thursday, Friday, Saturday),

• May 23, 24, 25 (Friday, Saturday, Sunday—Memorial Day weekend),

• May 29, 30, 31 (Thursday, Friday, Saturday),

• June 1, 5, 6, 7, 8, 12, 13, 14, 15, 19, 20, 21, 22, 26, 27, 28, 29 (Thursday, Friday, Saturday, Sunday).

If the subarea allocation remains for at least another full day of fishing after June 30, NMFS may take inseason action to reopen the fishery in August, up to 7 days per week, through September. The area will be closed when there is not sufficient subarea allocation for another full day of fishing. If the fishery is closed prior to September 30 and there is insufficient allocation remaining to reopen for another fishing day, then any remaining allocation may be transferred inseason to another Washington coastal subarea by NMFS. Any inseason action, including closures, will be announced in accordance with Federal regulations at 50 CFR 300.63(c) and on the NMFS hotline at (206) 526-6667 or (800) 662-9825.

If the 2025 Area 2A FCEY is less than 1.3 million lb (589.7 mt), then NMFS is proposing to open the fishery:

• May 1, 3, 8, 10, 15, 17 (Thursday, Saturday),

• May 23 and May 25 (Friday, Sunday—Memorial Day weekend),

• May 29, 31 (Thursday, Saturday),

• June 5, 6, 7, 12, 13, 14, 19, 20, 21, 26, 27, 28 (Thursday, Friday, Saturday).

If the subarea allocation remains for at least another full day of fishing after June 30, NMFS may take inseason action to reopen the fishery in August, up to 7 days per week, through September. The area will be closed when there is not sufficient subarea allocation for another full day of fishing. If the fishery is closed prior to September 30 and there is insufficient allocation remaining to reopen for another fishing day, then any remaining allocation may be transferred inseason to another Washington coastal subarea by NMFS.

Any inseason action, including closures and intrastate subarea allocation transfers, will be announced in accordance with Federal regulations at 50 CFR 300.63(c) and on the NMFS hotline at (206) 526-6667 or (800) 662-9825.

(b) The daily bag limit is one Pacific halibut of any size per person.

Washington South Coast Subarea

The allocation for landings into ports in the South Coast subarea will be provided in the final rule based on the allocation formula in the CSP. The South Coast subarea has a primary and a nearshore fishery.

(a) NMFS is proposing to open the Washington South Coast primary fishery:

• May 1, 4, 6, 8, 11, 13, 15, 18, 20, 22, 25, 27, 29 (Thursday, Sunday, Tuesday),

• June 12, 15, 17, 19, 22, 24, 26, 29 (Thursday, Sunday, Tuesday).

The fishery will close when there is not sufficient subarea allocation for another full day of fishing. If the subarea allocation remains for at least another full day of fishing after June 30, NMFS may take inseason action to reopen the fishery in August, up to 7 days per week, through September. The area will be closed when there is not sufficient subarea allocation for another full day of fishing. Any inseason action, including closures and intrastate subarea allocation transfers, will be announced in accordance with Federal regulations at 50 CFR 300.63(c) and on the NMFS hotline at (206) 526-6667 or (800) 662-9825.

When the South Coast subarea primary fishery does not have sufficient allocation 0to open for at least another full day of fishing, any remaining primary fishery allocation will be used to open a nearshore fishery. The nearshore fishery will open the first Saturday after the closure of the primary fishery and will be open 7 days per week until there is not sufficient nearshore fishery allocation remaining for another full day of fishing, at which point the area will be closed.

If the primary fishery is closed prior to September 30 and there is not sufficient allocation remaining for at least a full day of fishing in the nearshore fishery, NMFS may take inseason action to transfer any remaining subarea allocation to another Washington coastal subarea.

Any inseason action, including closures and intrastate subarea allocation transfers, will be announced in accordance with Federal regulations at 50 CFR 300.63(c) and on the NMFS hotline at (206) 526-6667 or (800) 662-9825.

(b) The daily bag limit is one Pacific halibut of any size per person.

Columbia River Subarea

The allocation for landings into ports in the Columbia River subarea will be provided in the final rule based on the allocation formula in the CSP. The Columbia River subarea has an all-depth fishery and a nearshore fishery.

If the 2025 2A FCEY is at least 1.3 million lb (589.7 mt), NMFS proposes to open the all-depth fishery as follows:

• May 1, 2, 4, 8, 9, 11, 15, 16, 18, 22, 23, 25, 29, 30 (Thursday, Friday, Sunday),

• June 1, 5, 6, 8, 12, 13, 15, 19, 20, 22, 26, 27, 29 (Thursday, Friday, Sunday).

If at least 55 percent of the Columbia River subarea allocation remains as of May 25, 2025, then NMFS may take inseason action to allow the all-depth fishery open the following additional days:

• June 9, 10, 16, 17, 30 (Monday and Tuesday).

If the 2025 2A FCEY is less than 1.3 million lb (589.7 mt), NMFS proposes to open the all-depth fishery as follows:

• May 1, 2, 4, 8, 9, 11, 15, 16, 18, 22, 23, 25, 29, 30 (Thursday, Friday, Sunday),

• June 1, 5, 6, 8, 12, 13, 15, 19, 20, 22, 26, 27, 29 (Thursday, Friday, Sunday).

The nearshore fishery will be open Monday through Wednesday following the opening of the all-depth fishery until the nearshore allocation is taken or September 30, whichever is earlier. On days when the all-depth halibut fishery is closed, taking, retaining, possessing, or landing halibut on groundfish trips is only allowed in the nearshore area.

If the subarea allocation remains for at least another full day of fishing after June 30, NMFS may take inseason action to reopen the nearshore fishery in August, up to 7 days per week, through September. The area will be closed when there is not sufficient subarea allocation for another full day of fishing. Any remaining subarea allocation may be transferred inseason to other Washington or Oregon subareas by NMFS in proportion to the allocation formula in the CSP, in accordance with Federal regulations at 50 CFR 300.63(c). Any inseason action, including closures and reallocation, will be announced in accordance with Federal regulations at 50 CFR 300.63(c) and on the NMFS hotline at (206) 526-6667 or (800) 662-9825.

(b) The daily bag limit is one Pacific halibut of any size per person.

Oregon Central Coast Subarea

The allocation for landings into ports in the Oregon Central Coast subarea will be provided in the final rule based on the allocation formula in the CSP. The Oregon Central Coast subarea has a nearshore, a spring all-depth, and a summer all-depth fishery.

(a) If the FCEY is 1.2 million lb (544.3 mt) or greater, NMFS proposes 10,000 lb (4.5 mt) of the Central Coast subarea allocation be allocated to the nearshore fishery. If the FCEY is between 700,000 lb (317.5 mt) and 1.2 million lb (544.3 mt), NMFS proposes to allocate 25 percent of the Central Coast subarea allocation to the nearshore fishery. If the FCEY is less than 700,000 lb (317.5 mt), NMFS proposes to allocate 12 percent of the Central Coast subarea allocation to the nearshore fishery. For the season structure, NMFS proposes to open the nearshore fishery 7 days per week from May 1 through October 31 if the nearshore fishery allocation is 25,000 lb (11.3 mt) or more, or from June 1 through October 31 if the nearshore fishery allocation is less than 25,000 lb (11.3 mt). The area will be closed when there is not sufficient subarea allocation for another full day of fishing. Any closure will be announced in accordance with Federal regulations at 50 CFR 300.63(c)(3) and on the NMFS hotline at (206) 526-6667 or (800) 662-9825.

If the FCEY is 1.2 million lb (544.3 mt) or greater, NMFS proposes 75 percent of the Central Coast subarea allocation be allocated to the spring all-depth fishery. If the FCEY is between 700,000 lb (317.5 mt) and 1.2 million lb (544.3 mt), NMFS proposes to allocate 63 percent of the Central Coast subarea allocation to the spring all-depth fishery. If the FCEY is less than 700,000 lb (317.5 mt), NMFS proposes to allocate 75 percent of the Central Coast subarea allocation to the spring all-depth fishery. NMFS is proposing to open the spring all-depth fishery up to 7 days per week from May 1 through July 31. The area will be closed when there is not sufficient subarea allocation for another full day of fishing. Any closure will be announced in accordance with Federal regulations at 50 CFR 300.63(c)(3) and on the NMFS hotline at (206) 526-6667 or (800) 662-9825.

If the FCEY is 700,000 lb (317.5 mt) or greater, NMFS proposes 25 percent of the Central Coast subarea allocation be allocated to the summer all-depth fishery. If the FCEY is less than 700,000 lb (317.5 mt) the summer all-depth fishery will not open. Should the summer all-depth fishery receive an allocation, NMFS is proposing to open the summer all-depth fishery from August 1 through October 31. The area will close when there is not sufficient subarea allocation for another full day of fishing. At the close of the spring all-depth fishery (July 31), if there is 50,000 lb (22.7 mt) or more allocation remaining, NMFS proposes to open the summer all-depth fishery 7 days a week, every week, from August 1 through October 31. If there is is less than 50,000 lb (22.7 mt) allocation remaining, NMFS proposes to open the summer all-depth fishery 7 days a week, every other week, from August 1 through October 31. If the entire Central Oregon Coast subarea allocation is 30,000 lb (13.6 mt) or more following Labor Day Weekend, the summer all-depth season will be open every week. The subarea will close when the remaining combined spring all-depth fishery and summer all-depth fishery allocations in the Oregon Central Coast subarea is not sufficient for another full day of fishing. Any closure will be announced in accordance with Federal regulations at 50 CFR 300.63(c)(3) and on the NMFS hotline at (206) 526-6667 or (800) 662-9825.

(b) The daily bag limit is two Pacific halibut of any size per person.

Southern Oregon Coast Subarea

The allocation for landings into ports in the Southern Oregon subarea will be provided in the final rule based on the allocation formula in the CSP.

(a) NMFS is proposing to open the fishery May 1 through October 31 or until there is not sufficient subarea allocation for another full day of fishing, at which point the area will be closed. Any closure will be announced in accordance with Federal regulations at 50 CFR 300.63(c)(3) and on the NMFS hotline at (206) 526-6667 or (800) 662-9825

(b) The daily bag limit is two Pacific halibut of any size per person.

Northern California Coast Subarea

The allocation for landings into ports in the Northern California Coast subarea will be provided in the final rule based on the allocation formula in the CSP.

(a) NMFS is proposing to open the fishery May 1 through November 15 or until there is not sufficient subarea allocation for another full day of fishing, at which point the area will be closed. NMFS will announce any closure in accordance with Federal procedures at 50 CFR 300.63(c) and on the NMFS hotline (206) 526-6667 or (800) 662-9825.

(b) The daily bag limit is one Pacific halibut of any size per person.

South of Point Arena Subarea

The allocation for landings into ports in the South of Point Arena subarea will be provided in the final rule based on the allocation formula in the CSP.

(a) NMFS is proposing to open the fishery May 1 through December 31 or until there is not sufficient subarea allocation for another full day of fishing, at which point the area will be closed. NMFS will announce any closure in accordance with Federal procedures at 50 CFR 300.63(c)(3) and on the NMFS hotline (206) 526-6667 or (800) 662-9825.

(b) The daily bag limit is one Pacific halibut of any size per person.

Additional Recreational Management Measures

In addition to the State-specific recreational fishing measures described above, NMFS also proposes to add an inseason provision for the California recreational subareas to provide for transfer of any projected unused Northern California subarea allocation to the South of Point Arena subarea prior to or by the end of the Northern California fishing season (November 15). The transfer of projected unused recreational fishery subarea allocation within a State is not a new concept in Area 2A as both Oregon and Washington have similar provisions. These changes are primarily intended to provide more opportunities for anglers to achieve but not exceed applicable allocations and were widely supported by stakeholders at multiple Council meetings.

While each year, in working with the Council and States, NMFS establishes State-specific season structures and management measures intended to fully attain the State's recreational fishery allocation and management objectives, partial attainment of a State recreational fishery allocation may occur, which contributes to lower attainment of the overall Area 2A FCEY. Certain existing inseason action provisions were intended as tools to achieve full attainment, such as modifying bag limits or the transfer of uncaught allocations within the Washington subareas and from the Columbia River subarea to other Washington and Oregon subareas as specified at 50 CFR 300.63(c)(6). However, under-attainment of the State recreational fishery allocations has still occurred despite these efforts to modify management measures inseason to meet the needs of the fishery.

As a way to address potential under-attainment of the State recreational fishery allocations in future years, the Council recommended adding an inseason provision for the California recreational subareas to transfer any projected unused Northern California subarea allocation to the South of Point Arena subarea. Therefore, through this action, NMFS proposes an inseason provision, through consultation with CDFW, where if NMFS determines that the Northern California subarea will be unable or unlikely to attain their originally established recreational subarea allocation for that fishing year, then NMFS may transfer any projected unused Northern California subarea allocation to the South of Point Arena subarea prior to or by the end of the Northern California fishing season (November 15). NMFS will announce any inseason action in accordance with Federal procedures at 50 CFR 300.63(c)(6) and on the NMFS hotline (206) 526-6667 or (800) 662-9825.

In previous years, the California recreational fishery has closed in late July/early August due to the fishery attaining their allocation from catches in what is now the Northern California subarea. However, in 2024, the Northern California subarea allocation was approximately 50 percent attained by the end of the season (November 15). During the summer, Pacific halibut are known to be encountered in other non-Pacific halibut directed recreational fisheries in the south of Point Arena subarea. Allowing the transfer of any projected unused Northern California subarea allocation to the South of Point Arena subarea prior to or by the end of the season could provide additional opportunities for anglers and charter operations across more of the State and later in the season. The inseason transfer of allocation among a State's subareas is seen as valuable tool in attaining the State recreational fishery allocations and the full Area 2A allocation.

Classification

Under section 773 of the Halibut Act, the Pacific Fishery Management Council may develop, and the Secretary of Commerce may implement, regulations governing Pacific halibut fishing by U.S. fishermen in Area 2A that are in addition to, and not in conflict with, approved IPHC regulations (16 U.S.C. 773c(c)). The proposed rule is consistent with the Council and NMFS's authority under the Halibut Act.

This proposed rule has been determined to be not significant for purposes of Executive Order 12866.

The Chief Counsel for Regulation of the Department of Commerce certified to the Chief Counsel for Advocacy of the Small Business Administration that this proposed rule, if adopted, would not have a significant economic impact on a substantial number of small entities, for the following reasons:

For Regulatory Flexibility Act (RFA) purposes only, NMFS has determined that charter vessels targeting Pacific halibut are all small businesses. Charter fishing operations are classified under NAICS code 487210, with a corresponding Small Business Association size standard of $14 million in annual receipts (13 CFR 121.201).

This proposed rule would open the 2025 Area 2A Pacific halibut recreational fishery and establish season dates and subarea allocations. Additionally, this proposed rule would add an inseason management provision for the California recreational fishery to transfer any projected unused Northern California subarea allocation to the South of Point Arena subarea. These changes were uncontroversial throughout the Council's public process, and overall participation in the recreational fisheries is not expected to change.

This action would affect anglers, charter vessels (which are small entities), and small businesses relying on recreational fishing across all of Area 2A. There are no large entities involved in the Pacific halibut fisheries off the West Coast, and no commercial fishing entities are directly affected by this rule. None of these changes will have a disproportionately negative effect on small entities versus large entities. Private vessels used for recreational fishing are not businesses and are therefore not included in the RFA analysis.

In 2024, NMFS issued 77 permits to the charter vessel fleet for Area 2A. NMFS anticipates a similar number of permits to be issued in 2025 and assumes a majority of permit holders may be affected by these regulations as those vessels operate in Area 2A. The major effect of Pacific halibut management on small entities (i.e., profitability) will be from the catch limit decisions (i.e., FCEYs) made by the IPHC at its annual meeting January 27-31, 2025, a decision independent from this proposed action. This proposed action would implement non-controversial management measures that NMFS believes will provide increased recreational opportunities under the IPHC allocations with minimal positive economic effects. Therefore, the proposed rule is unlikely to affect the profitability of the recreational fishery or the small charter fishing businesses that target Pacific halibut.

For the reasons described above, the proposed action, if adopted, will not have a significant economic impact on a substantial number of small entities. As a result, an initial regulatory flexibility analysis is not required and none has been prepared.

This proposed rule contains no information collection requirements under the Paperwork Reduction Act of 1995.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: December 16, 2024.
Samuel D. Rauch, III,
Deputy Assistant Administrator for Regulatory Programs, National Marine Fisheries Service.

For the reasons set out in the preamble, NMFS proposes to amend 50 CFR part 300, subpart E, as follows:

PART 300—INTERNATIONAL FISHERIES REGULATIONS

Subpart E—Pacific Halibut Fisheries

1. The authority citation for part 300, subpart E, continues to read as follows:

Authority: 16 U.S.C. 773-773k.

2. In § 300.63, redesignate paragraphs (c)(6)(i)(E) and (F) to (c)(6)(i)(F) and (G) and add new paragraph (c)(6)(i)(E), to read as follows:

§ 300.63 Catch sharing plan and domestic management measures in Area 2A.

* * * * *

(c) * * *

(6) * * *

(i) * * *

(E) If the Northern California recreational (sport) subarea is not projected to utilize its respective allocation prior to or by the season ending date, NMFS may take inseason action to transfer any projected unused allocation to the South of Point Arena subarea.

* * * * *

[FR Doc. 2024-30430 Filed 12-23-24; 8:45 am]

BILLING CODE 3510-22-P